DEPARTMENT OF HEALTH AND HUMAN SERVICES

National Institutes of Health

Office of the Director, National Institutes of Health; Amended Notice of Meeting

Notice is hereby given of a change in the meeting of the Office of Research Infrastructure Programs Special Emphasis Panel, October 09, 2013, 08:00 a.m. to October 10, 2013, 05:30 p.m., National Institutes of Health, One Democracy Plaza, 6701 Democracy Boulevard, Bethesda, MD 20892, which was published in the Federal Register on September 16, 2013, 78 FR 56903.

The dates of the meeting are changed from October 9-10, 2013 to November 6-7, 2013. The meeting is closed to the public.

Dated: October 30, 2013.
David Clary,
Program Analyst, Office of Federal Advisory Committee Policy.

[FR Doc. 2013-26434 Filed 11-4-13; 8:45 am]

BILLING CODE 4140-01-P